DEPARTMENT OF TRANSPORTATION

Federal Aviation Administration

Notice of Opportunity for Public Comment on Surplus Property Release at the Craig Field Airport, Selma, Alabama

AGENCY: Federal Aviation Administration, DOT.

ACTION: Notice of intent to rule on land release request.

SUMMARY: The FAA is considering a request from the Craig Field Airport and Industrial Authority to waive the requirement that 13.19± acres of airport property located at the Craig Field Airport in Selma, Alabama, be used for aeronautical purposes.

DATES: Comments must be received on or before April 6, 2018.

ADDRESSES: Comments on this notice may be mailed or delivered in triplicate to the FAA to the following address: Jackson Airports District Office, Attn: Kevin Morgan, Program Manager, 100 West Cross Street, Suite B, Jackson, MS 39208-2307.

In addition, one copy of any comments submitted to the FAA must be mailed or delivered to Craig Field Airport and Industrial Authority, Attn: Menzo Driskell, Executive Director, P.O. Box 1421, Selma, AL 36702-1421.

FOR FURTHER INFORMATION CONTACT: Kevin Morgan, Program Manager, Jackson Airports District Office, 100 West Cross Street, Suite B, Jackson, MS 39208-2307, (601) 664-9891. The land release request may be reviewed in person at this same location.

SUPPLEMENTARY INFORMATION: The FAA is reviewing a request by Craig Field Airport and Industrial Authority to release 13.19± acres of airport property at the Craig Field Airport (SEM) under the provisions of Title 49, U.S.C. Section 47153(c). The property will be purchased by Timewell-Southern Division for non-aeronautical purposes. The property is within the Craig Field Industrial Park and adjacent to other non-aeronautical property on west quadrant of airport property just off highway 41. The net proceeds from the sale of this property will be used for maintenance and improvements at the Craig Field Airport.

Any person may inspect the request in person at the FAA office listed above under FOR FURTHER INFORMATION CONTACT.

In addition, any person may, upon request, inspect the request, notice and other documents germane to the request in person at the Craig Field Airport (SEM).

Issued in Jackson, Mississippi, on February 27, 2018.
Rans D. Black,
Manager, Jackson Airports District Office, Southern Region.

[FR Doc. 2018-04582 Filed 3-6-18; 8:45 am]

BILLING CODE 4910-13-P